FEDERAL ELECTION COMMISSION

Sunshine Act Meetings

DATE & TIME: Tuesday, August 8, 2000 at 10:00 a.m.

PLACE: 999 E Street, N.W., Washington, D.C.

STATUS: This meeting will be closed to the public.

ITEMS TO BE DISCUSSED:

Compliance matters pursuant to 2 U.S.C. 437g.

Audits conducted pursuant to 2 U.S.C. 437g, 438(b), and title 26, U.S.C.

Matters concerning participation in civil actions or proceedings or arbitration.

Internal personnel rules and procedures or matters affecting a particular employee.

DATE & TIME: Thursday, August 10, 2000 at 10:00 a.m.

PLACE: 999 E Street, N.W., Washington, D.C. (ninth floor).

STATUS: This meeting will be open to the public.

ITEMS TO BE DISCUSSED:

Correction and Approval of Minutes.

Draft Advisory Opinion 2000-16—Third Millennium: Advocates for the Future, Inc. by counsel, B. Holly Schadler and Brian G. Svoboda.

Draft Advisory Opinion 2000-18—Nader 2000 Primary Committee, Inc. by counsel, Michael B. Trister.

Draft Advisory Opinion 2000-19—Republican Party of Florida by counsel, Benjamin L. Ginsberg.

Administrative Matters.

PERSON TO CONTACT FOR INFORMATION: Mr. Ron Harris, Press Officer, Telephone: (202) 694-1220.

Mary W. Dove,
Acting Secretary of the Commission.

[FR Doc. 00-19643 Filed 7-31-00; 11:25 am]

BILLING CODE 6715-01-M